DEPARTMENT OF COMMERCE

International Trade Administration

[A-412-801; A-588-804]

Ball Bearings and Parts Thereof From Japan and the United Kingdom: Preliminary Results of Antidumping Duty Administrative Review; 2010-2011

AGENCY: Enforcement and Compliance, International Trade Administration, Department of Commerce.

SUMMARY: The Department of Commerce (the Department) is conducting administrative reviews of the antidumping duty orders on ball bearings and parts thereof (ball bearings) from Japan and the United Kingdom. The period of review (POR) is May 1, 2010, through April 30, 2011. We preliminarily find that ball bearings from Japan and the United Kingdom have been sold at less than normal value during the POR. We are also rescinding the review with respect to certain producers/exporters.

DATES: Effective: September 23, 2014.

FOR FURTHER INFORMATION CONTACT: Michael Romani or Thomas Schauer, AD/CVD Operations, Office I, Enforcement and Compliance, International Trade Administration, U.S. Department of Commerce, 14th Street and Constitution Avenue NW., Washington, DC 20230; telephone: (202) 482-0198 or (202) 482-0410, respectively.

SUPPLEMENTARY INFORMATION:

Background

On May 15, 1989, the Department published the antidumping duty orders on ball bearings and parts thereof from Japan and the United Kingdom in the Federal Register.¹ On June 28, 2011, in accordance with 19 CFR 351.221(b), we published a notice of initiation of administrative reviews of 43 companies subject to these Orders.²

¹ See Antidumping Duty Orders: Ball Bearings, Cylindrical Roller Bearings, and Spherical Plain Bearings, and Parts Thereof From Japan, 54 FR 20904 (May 15, 1989) and Antidumping Duty Orders and Amendments to the Final Determinations of Sales at Less Than Fair Value: Ball Bearings, and Cylindrical Roller Bearings and Parts Thereof From the United Kingdom, 54 FR 20910 (May 15, 1989) (collectively, Orders).

² See Initiation of Antidumping and Countervailing Duty Administrative Reviews and Request for Revocation in Part, 76 FR 37781 (June 28, 2011).

On July 15, 2011, pursuant to a decision of the Court of International Trade (CIT) that affirmed the International Trade Commission's (ITC's) negative injury determinations on remand in the second sunset review of the antidumping duty orders on bearings from Japan and the United Kingdom, the Department revoked the Orders and discontinued these administrative reviews.³ On May 16, 2013, the United States Court of Appeals for the Federal Circuit (Federal Circuit) reversed the CIT's decision and ordered the CIT to reinstate the ITC's affirmative material injury determinations.⁴ Subsequently, on November 18, 2013, the CIT issued final judgment reinstating the ITC's affirmative injury determinations.⁵ As a result, the Department reinstated the Orders and resumed these administrative reviews.⁶

³ See Ball Bearings and Parts Thereof From Japan and the United Kingdom: Revocation of Antidumping Duty Orders, 76 FR 41761 (July 15, 2011) (Revocation Notice).

⁴ NSK Corp v. United States International Trade Commission, 716 F.3d 1352 (Fed. Cir. 2013) (NSK May 2013).

⁵ NSK Corp. v. United States International Trade Commission, Court No. 06-334, Slip Op. 2013-143 (CIT November 18, 2013) (NSK November 2013).

⁶ See Ball Bearings and Parts Thereof From Japan and the United Kingdom: Notice of Reinstatement of Antidumping Duty Orders, Resumption of Administrative Reviews, and Advance Notification of Sunset Reviews, 78 FR 76104 (December 16, 2013) (Reinstatement Notice).

We rescinded the administrative review of ball bearings from Japan, in part,⁷ for all firms for which we initiated a review except for Bosch Packaging Technology K.K., Bosch Rexroth Corporation, and Hagglunds Ltd.⁸

⁷ See Ball Bearings and Parts Thereof From Japan: Rescission of Antidumping Duty Administrative Review, in Part; 2010-2011, 79 FR 26405 (May 8, 2014); see also Ball Bearings and Parts Thereof From Japan: Amended Rescission of Antidumping Duty Administrative Review, in Part; 2010-2011, 79 FR 32693 (June 6, 2014).

⁸ Even though these three companies provided joint submissions as affiliates of Robert Bosch LLC, the Department has made no determination whether these three companies should be considered as a single entity.

Scope of the Orders

The products covered by the Orders are ball bearings and parts thereof. The product is currently classified under the Harmonized Tariff Schedules of the United States (HTSUS) item numbers 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80. The HTSUS subheading is provided for convenience and customs purposes. A full description of the scope of the orders is contained in the Preliminary Decision Memorandum.⁹ The written description is dispositive.

⁹ See memorandum from Gary Taverman, Associate Deputy Assistant Secretary for Antidumping and Countervailing Duty Operations, to Ronald K. Lorentzen, Acting Assistant Secretary for Enforcement and Compliance, “Decision Memorandum for Preliminary Results of Antidumping Duty Administrative Review: Ball Bearings and Parts Thereof from the United Kingdom and Japan” dated concurrently with this notice (Preliminary Decision Memorandum), which is hereby adopted by this notice.

Rescission of Review in Part

In accordance with 19 CFR 351.213(d), the Department will rescind an administrative review in part “if a party that requested a review withdraws the request within 90 days of the date of the publication of notice of initiation of the requested review.” Subsequent to the initiation of the review with respect to the United Kingdom, we received timely withdrawals of the requests we had received for the review of SKF (UK) Limited SNFA Operations and SKF UK Limited Stonehouse Operations. Because there are no other requests for review of these firms, we are rescinding the review with respect to these companies in accordance with 19 CFR 351.213(d)(1).

Methodology

The Department conducted these administrative reviews in accordance with section 751(a)(1)(B) of the Tariff Act of 1930, as amended (the Act). Constructed export price is calculated in accordance with section 772 of the Act. Normal value is calculated in accordance with section 773 of the Act. The Department has determined the weighted-average dumping margins for Bayerische Motoren Werke AG in the administrative review concerning ball bearings from the United Kingdom, and Bosch Packaging Technology K.K., Bosch Rexroth Corporation and Hagglunds Ltd. in the administrative review concerning ball bearings from Japan based on facts otherwise available with an adverse inference pursuant to section 776 of the Act. For the remaining respondents in the administrative review concerning ball bearings from the United Kingdom, the Department based the weighted-average dumping margins on the rate that it calculated for NSK Bearings Europe Ltd. and NSK Europe Ltd. (collectively, NSK). For a full description of the methodology underlying our conclusions, see Preliminary Decision Memorandum.

The Preliminary Decision Memorandum is a public document and is on file electronically via Enforcement and Compliance's Antidumping and Countervailing Duty Centralized Electronic Service System (IA ACCESS). Access to IA ACCESS is available to registered users at http://iaaccess.trade.gov and is available to all parties in the Central Records Unit, room 7046 of the main Department of Commerce building. In addition, a complete version of the Preliminary Decision Memorandum can be accessed directly on the Internet at http://enforcement.trade.gov/frn/index.html. The signed Preliminary Decision Memorandum and the electronic versions of the Preliminary Decision Memorandum are identical in content.

Preliminary Results of the Reviews

As a result of these reviews, we preliminarily determine that the following weighted-average dumping margins on ball bearings from Japan and the United Kingdom exist for the period May 1, 2010, through April 30, 2011:

Company | Weighted-Average Dumping Margin (percent)
Japan
Bosch Packaging Technology K.K. | 106.61
Bosch Rexroth Corporation | 106.61
Hagglunds Ltd. | 106.61
United Kingdom
Bayerische Motoren Werke AG | 254.25
Bosch Rexroth Limited | 1.55
Caterpillar S.A.R.L. | 1.55
Caterpillar Group Services S.A. | 1.55
Caterpillar of Australia Pty Ltd. | 1.55
Caterpillar Overseas S.A.R.L. | 1.55
Caterpillar Marine Power UK | 1.55
NSK | 1.55
Perkins Engines Company Ltd. | 1.55

Disclosure and Public Comment

We intend to disclose the calculations performed to parties to these proceedings within five days of the date of publication of this notice in accordance with 19 CFR 351.224(b). Pursuant to 19 CFR 351.309(c), interested parties may submit cases briefs not later than 30 days after the date of publication of this notice. Rebuttal briefs, limited to issues raised in the case briefs, may be filed not later than five days after the date for filing case briefs.¹⁰ Parties who submit case briefs or rebuttal briefs in this proceeding are encouraged to submit with each argument: (1) A statement of the issue; (2) a brief summary of the argument; and (3) a table of authorities.¹¹

¹⁰ See 19 CFR 351.309(d).

¹¹ See 19 CFR 351.309(c)(2) and (d)(2).

Pursuant to 19 CFR 351.310(c), interested parties who wish to request a hearing, or to participate if one is requested, must submit a written request to the Assistant Secretary for Enforcement and Compliance, filed electronically via IA ACCESS. An electronically filed document must be received successfully in its entirety by the Department's electronic records system, IA ACCESS, by 5:00 p.m. Eastern Time within 30 days after the date of publication of this notice. Requests should contain: (1) The party's name, address and telephone number; (2) the number of participants; and (3) a list of issues to be discussed. Issues raised in the hearing will be limited to those raised in the respective case briefs. The Department intends to issue the final results of these administrative reviews, including the results of its analysis of the issues raised in any written briefs, not later than 120 days after the date of publication of this notice, pursuant to section 751(a)(3)(A) of the Act.

Assessment Rates

Upon completion of the administrative reviews, the Department will determine, and U.S. Customs and Border Protection (CBP) shall assess, antidumping duties on all appropriate entries. In accordance with 19 CFR 351.212(b)(1), for NSK we calculated an importer-specific assessment rate by dividing the total amount of dumping for the reviewed sales by the total entered value of those reviewed sales for each importer. We will direct CBP to assess the resulting assessment rate against the entered customs values for the subject merchandise on each of that importer's entries during the review period.¹²

¹² See 19 CFR 351.212(b).

For entries of subject merchandise during the POR produced by NSK for which it did not know its merchandise was destined for the United States, we will instruct CBP to liquidate unreviewed entries at the all-others rate if there is no rate for the intermediate company(ies) involved in the transaction. For a full discussion, see Antidumping and Countervailing Duty Proceedings: Assessment of Antidumping Duties, 68 FR 23954 (May 6, 2003).

For the companies which were not selected for individual examination and for the companies to which we are applying adverse facts available, we will instruct CBP to apply the rates listed above to all entries of subject merchandise produced and/or exported by such firms.

We intend to issue instructions to CBP 15 days after publication of the final results of these administrative reviews.

Cash Deposit Requirements

Because the antidumping duty orders on ball bearings from Japan and the United Kingdom have been revoked,¹³ the Department will not issue cash deposit instructions at the conclusion of these administrative reviews.

¹³ See Ball Bearings and Parts Thereof From Japan and the United Kingdom: Final Results of Sunset Reviews and Revocation of Antidumping Duty Orders, 79 FR 16771 (March 26, 2014).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act.

Dated: September 17, 2014.
Ronald K. Lorentzen,
Acting Assistant Secretary for Enforcement and Compliance.

Appendix

List of Topics Discussed in the Preliminary Decision Memorandum

Summary

Background

Scope of the Orders Rescission in Part

Continuation of Administrative Review of Bosch Packaging Technology K.K., Bosch Rexroth Corporation, and Hagglunds Ltd. (Japan)

Selection of Respondents

Non-Selected Respondents

Use of Facts Otherwise Available

A. Use of Facts Available

B. Application of Adverse Inferences for Facts Available

C. Selection and Corroboration of Information Used as Facts Available

Comparisons to Normal Value

A. Determination of Comparison Method

B. Results of the Differential Pricing Analysis

Product Comparisons

Date of Sale

Constructed Export Price

Normal Value

A. Home Market Viability as Comparison Market

B. Level of Trade

C. Calculation of Normal Value Based on Comparison Market Prices

D. Calculation of Normal Value Based on Constructed Value

E. Cost of Production

1. Calculation of Cost of Production

2. Test of Comparison-Market Sales Prices

3. Results of the COP Test

Currency Conversion

Recommendation

[FR Doc. 2014-22628 Filed 9-22-14; 8:45 am]

BILLING CODE 3510-DS-P